ENVIRONMENTAL PROTECTION AGENCY

40 CFR Part 300

[EPA-HQ-SFUND-1983-0002; FRL-9840-4]

National Oil and Hazardous Substances Pollution Contingency Plan; National Priorities List: Deletion of the Craig Farm Drum Superfund Site

AGENCY: Environmental Protection Agency (EPA).

ACTION: Proposed rule; notice of intent.

SUMMARY: The Environmental Protection Agency (EPA) Region III is issuing a Notice of Intent to Delete the Craig Farm Drum Superfund Site (Site) located in Perry Township, Armstrong County, Pennsylvania, from the National Priorities List (NPL) and requests public comments on this proposed action. The NPL, promulgated pursuant to Section 105 of the Comprehensive Environmental Response, Compensation, and Liability Act (CERCLA) of 1980, as amended, is an appendix of the National Oil and Hazardous Substances Pollution Contingency Plan (NCP). The EPA and the Commonwealth of Pennsylvania, through the Pennsylvania Department of Environmental Protection (PADEP), have determined that all appropriate response actions under CERCLA, other than operation, maintenance, and Five Year Reviews, have been completed. However, this deletion does not preclude future actions under Superfund.

DATES: Comments must be received by August 29, 2013.

ADDRESSES: Submit your comments, identified by Docket ID no. EPA-HQ-SFUND-1983-0002, by one of the following methods:

• http://www.regulations.gov. Follow on-line instructions for submitting comments.

• Email: Epps.John@epa.gov.

• Fax: (215) 814-3002.

• Mail: John Epps, 1650 Arch Street, Mail Code 3HS22, Philadelphia, PA 19103.

• Hand delivery: John Epps, 1650 Arch Street, Mail Code 3HS22, Philadelphia, PA 19103.

Such deliveries are only accepted during the Docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket:All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

EPA Administrative Records Room, 1650 Arch Street, Philadelphia, PA 19103, (215) 814-3157, Hours: Monday through Friday, 8:00 a.m. to 4:30 p.m.; by appointment only.

Karns City Area High School Office, 1446 Kittanning, Karns City, PA 16041, (726) 756-2030, Please call to schedule an appointment.

FOR FURTHER INFORMATION CONTACT: John Epps, Remedial Project Manager, U.S. Environmental Protection Agency, Region III, 1650 Arch Street, Mail Code 3HS22, Philadelphia, PA 19103, (215) 814-3144, Email: Epps.John@epa.gov.

SUPPLEMENTARY INFORMATION: In the “Rules and Regulations” Section of today's Federal Register, we are publishing a direct final Notice of Deletion of the Craig Farm Drum Superfund Site without prior Notice of Intent to Delete because we view this as a noncontroversial revision and anticipate no adverse comment. We have explained our reasons for this deletion in the preamble to the direct final Notice of Deletion, and those reasons are incorporated herein. If we receive no adverse comment(s) on this deletion action, we will not take further action on this Notice of Intent to Delete. If we receive adverse comment(s), we will withdraw the direct final Notice of Deletion, and it will not take effect. We will, as appropriate, address all public comments in a subsequent final Notice of Deletion based on this Notice of Intent to Delete. We will not institute a second comment period on this Notice of Intent to Delete. Any parties interested in commenting must do so at this time.

For additional information, see the direct final Notice of Deletion which is located in the Rules section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 10, 2013.
W.C. Early,
Acting Regional Administrator, Region III.

[FR Doc. 2013-18190 Filed 7-29-13; 8:45 am]

BILLING CODE 6560-50-P